DEPARTMENT OF DEFENSE

Department of the Army

Proposed Collection; Comment Request

AGENCY: Department of the Army, DoD.

ACTION: Notice.

SUMMARY: In compliance with Section 3506(c)(2)(A) of the Paperwork Reduction Act of 1995, the Department of the Army announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by May 13, 2002.

ADDRESSES: Written comments and recommendations on the proposed information collection should be sent to the USACE, Directorate of Civil Works, Institute for Water Resources, 7701 Telegraph Road/Casey Building, Alexandria, Virginia 22315-3868, ATTN: Virginia Pankow. Consideration will be given to all comments received within 60 days of the date of publication of this notice.

FOR FURTHER INFORMATION CONTACT: To request more information on this proposed information collection or to obtain a copy of the proposal and associated collection instruments, please write to the above address, or call Department of the Army Reports Clearance Officer at (703) 692-1451.

Title, Associated Form, and OMB Number: Terminal and Transfer Facilities Descriptions, ENG FORMS, 1,2,3,4,5,6,7,8,9; OMB Control No. 0710-0007.

Needs and Uses: Data gathered, and published as one of the 56 Port Series Report, relate to terminals, transfer facilities, storage facilities, and intermodal transportation. This information is used in navigation, planning, safety, National Security, emergency operations, and general interest studies and activities. Respondents are the terminal and transfer facility operators.

Affected Public: Business or other for profit.

Annual Burden Hours: 372.

Number of Respondents: 1,489.

Responses Per Respondent: 1.

Average Burden Per Response: 15 minutes.

Frequency: Annually.

SUPPLEMENTARY INFORMATION: The data is used by the Corps of Engineers, in conjunction with other navigation information of waterway freight and passenger traffic, to evaluate the impact of redefining “the justified level of service” of the channel maintenance program. These data are also essential to the Waterborne Commerce Statistics Center in exercising their enforcement and quality control responsibilities in the collection of data from vessel reporting companies.

Luz D. Ortiz,
Army Federal Register Liaison Officer.

[FR Doc. 02-5906 Filed 3-11-02; 8:45 am]

BILLING CODE 3710-08-M